DEPARTMENT OF TRANSPORTATION

Federal Aviation Administration

14 CFR Part 71

[Docket No. FAA-2017-1083; Airspace Docket No. 17-ACE-13]

Proposed Amendment of Class D and E Airspace; Kansas City, MO; and Revocation of Class E Airspace; Kansas City, MO

AGENCY: Federal Aviation Administration (FAA), DOT.

ACTION: Notice of proposed rulemaking (NPRM).

SUMMARY: This action proposes to amend Class D airspace at Charles B. Wheeler Downtown Airport, Kansas City, MO; remove Class E airspace designated as an extension to Class D airspace at Charles B. Wheeler Downtown Airport; and amend Class E airspace extending upward from 700 feet above the surface at Kansas City International Airport, Kansas City, MO, and Charles B. Wheeler Downtown Airport. The FAA is proposing this action due to the decommissioning of the Riverside VHF omnidirectional range (VOR) facility, which provided navigation guidance for the instrument procedures to Charles B. Wheeler Downtown Airport. The VOR has been decommissioned as part of the VOR Minimum Operational Network (MON) Program. This action also would amend the airspace designations of Class D airspace and Class E airspace extending upward from 700 feet above the surface for these airports. Additionally, the geographic coordinates and airport name are being updated to coincide with the FAA's aeronautical database. This action is necessary for the safety and management of instrument flight rules (IFR) operations at these airports.

DATES: Comments must be received on or before March 19, 2018.

ADDRESSES: Send comments on this proposal to the U.S. Department of Transportation, Docket Operations, 1200 New Jersey Avenue SE, West Building Ground Floor, Room W12-140, Washington, DC 20590; telephone (202) 366-9826, or (800) 647-5527. You must identify FAA Docket No. FAA-2017-1083; Airspace Docket No. 17-ACE-13 at the beginning of your comments. You may also submit comments through the internet at http://www.regulations.gov. You may review the public docket containing the proposal, any comments received, and any final disposition in person in the Dockets Office between 9:00 a.m. and 5:00 p.m., Monday through Friday, except federal holidays.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would support IFR operations at Charles B. Wheeler Downtown Airport, and Kansas City International Airport, Kansas City, MO.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2017-1083; Airspace Docket No. 17-ACE-13.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Proposal

The FAA is proposing an amendment to Title 14 Code of Federal Regulations (14 CFR) part 71 that would:

Amend the Class D airspace at Charles B. Wheeler Downtown Airport by updating the header of the airspace designation to Kansas City, MO, (from Kansas City Charles B. Wheeler Downtown Airport, MO) to comply with FAA Order 7400.2L, Procedures for Handling Airspace Matters; adding an extension 1 mile each side of the 012° bearing from the Charles B. Wheeler Downtown RWY 19 LOC from the 4.2-mile radius to 4.4 miles from the airport; adding an extension 1 mile each side of the 013° bearing from the airport from the 4.2-mile radius to 4.3 miles north of the airport; adding an extension 1 mile each side of the 215° bearing from the Charles B. Wheeler Downtown RWY 03 LOC from the 4.2-mile radius to 4.5 miles northeast of the airport; adding an extension 1 mile each side of the 218° bearing from the airport from the 4.2-mile radius to 5 miles south of the airport; and updating the geographic coordinates of the airport to coincide with the FAA's aeronautical database;

Remove the Class E airspace designated as an extension to Class D airspace at Charles B. Wheeler Downtown Airport as the airspace is no longer required; and

Amend Class E airspace extending upward from 700 feet above the surface at Kansas City, MO, by updating the header of the airspace designation to Kansas City, MO, (from Kansas City International Airport, MO) to comply with FAA Order 7400.2L; updating the name and geographic coordinates of Charles B. Wheeler Downtown Airport (previously Kansas City Downtown Airport) and the geographic coordinates of Sherman Army Airfield (AAF), KS, to coincide with the FAA's aeronautical database; removing the Kansas City VORTAC, DOTTE LOM, Riverside VOR/DME, ILS RWY 19R localizer, ILS RWY 19 localizer, ILS RWY 1L localizer, and ILS RWY 1R localizer from the airspace description; removing all current extensions at Kansas City International Airport and Charles B. Wheeler Downtown Airport; and adding an extension 2 miles each side of the 215° bearing from the Charles B. Wheeler Downtown RWY 03 LOC from the 6.7-mile radius to 8.7 miles south of the Charles B. Wheeler Downtown Airport.

Airspace reconfiguration is necessary due to the decommissioning of the Riverside VOR as part of the VOR MON Program and for the safety and management of IFR operations at these airports.

Class D and E airspace designations are published in paragraphs 5000, 6004, and 6005, respectively, of FAA Order 7400.11B, dated August 3, 2017, and effective September 15, 2017, which is incorporated by reference in 14 CFR 71.1. The Class D and E airspace designations listed in this document will be published subsequently in the Order.

Regulatory Notices and Analyses

The FAA has determined that this proposed regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ACE MO D Kansas City, MO [Amended]

Charles B. Wheeler Downtown Airport, MO

(Lat. 39°07′23″ N, long. 94°35′34″ W)

Charles B. Wheeler Downtown RWY 19 LOC

(Lat. 39°06′50″ N, long. 94°35′44″ W)

Charles B. Wheeler Downtown RWY 03 LOC

(Lat. 39°07′40″ N, long. 94°35′17″ W)

That airspace extending upward from the surface to and including 3,300 feet MSL within a 4.2-mile radius of Charles B. Wheeler Downtown Airport, excluding that airspace within the Kansas City, MO Class B airspace area; and within 1 mile each side of the 012° bearing from the Charles B. Wheeler Downtown RWY 19 LOC, extending from the 4.2-mile radius to 4.4 miles north of the airport; and within 1 mile each side of the 013° bearing from the airport, extending from the 4.2-mile radius to 4.3 miles north of the airport; and within 1 mile each side of the 215° bearing from the Charles B. Wheeler Downtown RWY 03 LOC, extending from the 4.2-mile radius to 4.5 miles south of the airport; and within 1 mile each side of the 218° bearing from the airport, extending from the 4.2-mile radius to 5 miles south of the airport.

Paragraph 6004 Class E Airspace Areas Designated as an Extension to a Class D or Class E Surface Area.

* * * * *

ACE MO E4 Kansas City Charles B. Wheeler Downtown Airport, MO [Removed]

Paragraph 6005 Class E Airspace Areas Extending Upward From 700 Feet or More Above the Surface of the Earth.

* * * * *

ACE MO E5 Kansas City, MO [Amended]

Kansas City International Airport, MO

(Lat. 39°17′51″ N, long. 94°42′50″ W)

Charles B. Wheeler Downtown Airport, MO

(Lat. 39°07′23″ N, long. 94°35′34″ W)

Charles B. Wheeler Downtown RWY 03 LOC

(Lat. 39°07′40″ N, long. 94°35′17″ W)

Sherman Army Airfield (AAF), KS

(Lat. 39°22′03″ N, long. 94°54′52″ W.)

That airspace extending upward from 700 feet above the surface within a 7.6-mile radius of Kansas City International Airport; and within a 6.7-mile radius of Charles B. Wheeler Downtown Airport; and within 2 miles each side of the 215° bearing from the Charles B. Wheeler Downtown RWY 03 LOC, extending from the 6.7-mile radius to 8.7 miles south of the Charles B. Wheeler Downtown Airport; and within a 6.5-mile radius of the Sherman AAF.

Issued in Fort Worth, Texas, on January 24, 2018.
Christopher L. Southerland,
Acting Manager, Operations Support Group, ATO Central Service Center.

[FR Doc. 2018-01795 Filed 1-31-18; 8:45 am]

BILLING CODE 4910-13-P